DEPARTMENT OF ENERGY

Federal Energy Regulatory Commission

[Docket No. ER01-1936-003, et al.]

PJM Interconnection, L.L.C., et al.; Electric Rate and Corporate Regulation Filings

October 3, 2001.

Take notice that the following filings have been made with the Commission:

1. PJM Interconnection, L.L.C.

[Docket No. ER01-1936-003]

Take notice that on September 28, 2001, PJM Interconnection, L.L.C. (PJM) tendered for filing with the Federal Energy Regulatory Commission (Commission) proposed amendments to the Amended and Restated Operating Agreement of PJM Interconnection, L.L.C. PJM states that the proposed amendments are submitted to comply with the Commission's order in this proceeding dated June 28, 2001, but were inadvertently omitted from PJM's compliance filing in this proceeding of July 27, 2001.

Copies of this filing have been served on all parties, as well as on all PJM Members and the state electric regulatory commissions in the PJM control area.

Comment date: October 19, 2001, in accordance with Standard Paragraph E at the end of this notice.

2. Virginia Electric and Power Company

[Docket No. ER01-2452-001]

Take notice that on September 25, 2001, Virginia Electric and Power Company (Dominion Virginia Power or the Company) respectfully tendered for filing with the Federal Energy Regulatory Commission (Commission) a request that Service Agreement for Firm Point-to-Point Transmission Service by Virginia Electric and Power Company to Topaz Energy Associates, LLC be re-designated as Service Agreement No. 338 under the Company's FERC Electric Tariff, Second Revised Volume No. 5.

A copy of the filing was served upon Topaz Energy Associates, LLC, the Virginia State Corporation Commission, and the North Carolina Utilities Commission.

Comment date: October 16, 2001, in accordance with Standard Paragraph E at the end of this notice.

3. California Electric Marketing, LLC

[Docket No. ER01-2690-001]

Take notice that on September 28, 2001, California Electric Marketing, LLC, (CalEM) submitted a filing with the Federal Energy Regulatory Commission (Commission) to comply with the Commission's September 21, 2001 Order issued in this proceeding in connection with CalEM's application to sell electric capacity and energy at market-based rates.

Comment date: October 19, 2001, in accordance with Standard Paragraph E at the end of this notice.

4. Jersey Central Power and Light Company

[Docket No. ER01-2888-001]

Take notice that on September 28, 2001, Jersey Central Power and Light Company (doing business and referred to as GPU Energy), at the direction of Commission Staff, submitted an amendment with the Federal Energy Regulatory Commission (Commission) to its August 20, 2001 filing in this docket. The August 20, 2001 filing concerned a Generation Facility Transmission Interconnection Agreement between GPU Energy and Ocean Peaking Power, L.P.

Comment date: October 19, 2001, in accordance with Standard Paragraph E at the end of this notice.

5. FirstEnergy Solutions Corp.

[Docket No. ER01-2968-001]

Take notice that on September 28, 2001, FirstEnergy Solutions Corp. (Solutions) tendered for filing with the Federal Energy Regulatory Commission (FERC or Commission), the wholesale rate schedules. Market-Based Rate Power Sales Tariff, Solutions FERC Electric Tariff, Original Volume No. 1. Assignment and Assumption Agreement dated September 29, 2000 between Solutions and The Cleveland Electric Illuminating Company, Ohio Edison Company, Pennsylvania Power Company and The Toledo Edison Company (collectively, the FirstEnergy Operating Companies), Solutions Rate Schedule FERC No. 1. Joint Dispatch Agreement dated December 29, 2000 among Solutions, the FirstEnergy Operating Companies, and American Transmission Systems, Incorporated, Solutions Rate Schedule FERC No. 2. Tariff for Sales of Ancillary Services and Interconnected System Operations, Solutions FERC Electric Tariff, First Revised Volume No. 3.

Solutions states that these rate schedules are being filed to implement a change in its corporate name from FirstEnergy Services Corp. (Services) to Solutions that took effect on September 1, 2001, and supersede corresponding rate schedules of Services. Solutions has asked to make each of these rate schedules effective concurrently with the change of its corporate name.

Comment date: October 19, 2001, in accordance with Standard Paragraph E at the end of this notice.

6. San Diego Gas & Electric Company

[Docket No. ER01-3074-001]

Take notice that on September 28, 2001, San Diego Gas & Electric Company (SDG&E) tendered for filing with the Federal Energy Regulatory Commission (Commission) a replacement proposed Original Sheet No. 79A for its Transmission Owner Tariff included in its application in the above docket. SDG&E states that this replacement sheet clarifies that SDG&E's proposed Supplemental Surcharge Transmission Rate will be billed per kilowatt hour, and not per kilowatt.

SDG&E requests a waiver of 18 CFR 35.3, in order to achieve an effective date of November 1, 2001 for the Supplemental Surcharge Rate. The rate and revenue impact of this rate will be passed on to California Independent System Operator (ISO) high voltage service and other Participating Transmission Owners based upon the Transmission Access Charges as described in Amendment 27 and 34 of the ISO Tariff. That is, on January 1, 2002 the ISO will incorporate the IV-La Rosita high voltage revenue requirement to adjust its High Voltage Wheeling Access Charge and its Transition Charges, which charges or credits each Participating Transmission Owner High Voltage Transmission revenues.

Comment date: October 19, 2001, in accordance with Standard Paragraph E at the end of this notice.

7. Arizona Public Service Company

[Docket No. ER01-3137-000]

Take notice that on September 28, 2001, Arizona Public Service Company (APS), tendered for filing with the Federal Energy Regulatory Commission (Commission) the Transmission Agreement under the Tariff with Pinnacle West Capital Corp. Marketing and trading (Pinnacle) pursuant to 18 CFR 35.13. Also enclosed is a list of all entities that have executed Network Service Agreements.

Comment date: October 19, 2001, in accordance with Standard Paragraph E at the end of this notice.

8. Progress Energy Inc. on behalf of Carolina Power & Light Company

[Docket No. ER01-3145-000]

Take notice that on September 28, 2001, Carolina Power & Light Company (CP&L) tendered for filing with the Federal Energy Regulatory Commission (Commission), an executed Service Agreement between CP&L and the following eligible buyer, Dominion Retail, Inc. Service to this eligible buyer will be in accordance with the terms and conditions of CP&L's Market-Based Rates Tariff, FERC Electric Tariff No. 5. CP&L requests an effective date of September 1, 2001 for this Service Agreement.

Copies of the filing were served upon the North Carolina Utilities Commission and the South Carolina Public Service Commission.

Comment date: October 19, 2001, in accordance with Standard Paragraph E at the end of this notice.

9. Exelon Generation Company, LLC

[Docket No. ER-3146-000]

Take notice that on September 28, 2001, Exelon Generation Company, LLC (Exelon Generation), submitted for filing with the Federal Energy Regulatory Commission (Commission) a power sales service agreement between Exelon Generation and DTE Energy Trading, Inc., under Exelon Generation's wholesale power sales tariff, FERC Electric Tariff Original Volume No. 2.

Comment date: October 19, 2001, in accordance with Standard Paragraph E at the end of this notice.

10. New York Independent System Operator, Inc.

[Docket No. ER01-3147-000]

Take notice that on September 28, 2001, the New York Independent System Operator, Inc. (NYISO), filed with the Federal Energy Regulatory Commission (Commission) a proposed revisions to the NYISO's Open Access Transmission Tariff (OATT) and Market Administration and Control Area Services Tariff (Services Tariff). The proposed filing would implement multi-hour block transactions in the NYISO Day-Ahead Market. The NYISO has requested that the Commission make the filing effective on December 1, 2001.

A copy of this filing was served upon all signatories of the NYISO OATT and Services Tariff as well as the New York Public Service Commission and the electric utility regulatory agencies in New York, New Jersey and Pennsylvania.

Comment date: October 19, 2001, in accordance with Standard Paragraph E at the end of this notice.

11. TransAlta Energy Marketing (US) Inc.

[Docket No. ER01-3148-000]

Take notice that on September 28, 2001, TransAlta Energy Marketing (US) Inc. (TEMUS) tendered for filing with the Federal Energy Regulatory Commission (Commission) a Notice of Succession pursuant to Section 35.16 of the Commission's Regulations, 18 CFR 35.16. TEMUS is succeeding to the rate schedule of Merchant Energy Group of the Americas, Inc., effective August 29, 2001.

Comment date: October 19, 2001, in accordance with Standard Paragraph E at the end of this notice.

12. Nevada Power Company

[Docket No. ER01-3149-000]

Take notice that on September 28, 2001, Nevada Power Company (Nevada Power) filed with the Federal Energy Regulatory Commission (Commission) pursuant to Section 205 of the Federal Power Act, an unexecuted Interconnection and Operation Agreement between Nevada Power and Mirant Las Vegas, LLC.

Comment date: October 19, 2001, in accordance with Standard Paragraph E at the end of this notice.

13. Deseret Generation & Transmission Co-operative, Inc.

[Docket No. ER01-3150-000]

Take notice that on September 28, 2001, Deseret Generation & Transmission Co-operative, Inc. (Deseret) tendered for filing with the Federal Energy Regulatory Commission (FERC or Commission) Amendments to First Revised Service Agreement Nos. 1 though 6 to its FERC Electric Tariff, Volume No. 1. The amendment provides for a one-time rate rebate for the year 2001 to each of Deseret's six Member Cooperatives. Deseret requests an effective date of December 1, 2001.

Copies of this filing were served upon Deseret's six Member Cooperatives.

Comment date: October 19, 2001, in accordance with Standard Paragraph E at the end of this notice.

14. Deseret Generation & Transmission Co-operative, Inc.

[Docket No. ER01-3151-000]

Take notice that on September 28, 2001, Deseret Generation & Transmission Co-operative, Inc. (Deseret) tendered for filing with the Federal Energy Regulatory Commission (FERC or Commission), a long-term Service Agreement between Deseret and Overton Power District. Deseret requests that the Commission accept this filing as a service agreement under the Company's Market-Based Rate Tariff, designated Service Agreement No. 10 to FERC Electric Tariff, Original Volume No. 3.

Deseret requests an effective date of September 1, 2001.

Comment date: October 19, 2001, in accordance with Standard Paragraph E at the end of this notice.

15. Consolidated Edison Company of New York, Inc.

[Docket No. ER01-3152-000]

Take notice that on September 28, 2001, Consolidated Edison Company of New York, Inc. (Con Edison) tendered for filing with the Federal Energy Regulatory Commission (Commission) a Continuing Site Agreement (Agreement) by and between Con Edison and Entergy Nuclear Indian Point 2, LLC, dated November 9, 2000 and amended on September 6, 2001.

Con Edison seeks an effective date for the Agreement of September 6, 2001, the commencement date of service under the Agreement.

Comment date: October 19, 2001, in accordance with Standard Paragraph E at the end of this notice.

16. New York Independent System Operator, Inc.

[Docket No. ER01-3153-000]

Take notice that on September 28, 2001, the New York Independent System Operator, Inc. (NYISO), at the Direction of its independent Board of Directors, made a filing with the Federal Energy Regulatory Commission (Commission) under Section 205 of the Federal Power Act to propose changes to Attachment H of its Market Administration and Control Area Services Tariff (Services Tariff) designed implement market mitigation measures for virtual bidding. The NYISO has requested that the Commission act on this filing in an expedited manner and that it shorten the usual period for comments. The NYISO has also requested that the Commission waive its usual 60-day notice requirement and make the filing effective no later than November 1, 2001.

The NYISO has served a copy of the filing on all parties that have executed Service Agreements under the NYISO's Open-Access Transmission Tariff or Services Tariff, on the New York State Public Service Commission, on the electric utility regulatory agencies in New Jersey and Pennsylvania and on all parties in Docket Nos. ER01-3001-000 and ER01-3009-000. The NYISO has also emailed a copy of this filing to all of the subscribers to the NYISO's Technical Information Exchange list.

Comment date: October 11, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25359 Filed 10-9-01; 8:45 am]

BILLING CODE 6717-01-P